DEPARTMENT OF TRANSPORTATION

Federal Highway Administration

Environmental Impact Statement: Delaware County, NY

AGENCY: The Federal Highway Administration (FHWA) and the New York State Department of Transportation (DOT).

ACTION: Notice of intent.

SUMMARY: The FHWA and DOT is issuing this notice to advise the public that an environmental impact statement will be prepared for a proposed highway project in Delaware County, New York.

FOR FURTHER INFORMATION CONTACT: John Williams, Action Regional Director, 44 Hawley Street, Binghamton, New York,13901, Telephone (607) 721-8116;

or

Robert Arnold, Division Administrator, Federal Highway Administration, New York Division, Leo W. O'Brien Federal Building, Room 719, Clinton Avenue and North Pearl Street, Albany, New York 12207, Telephone (518) 431-4127.

SUPPLEMENTARY INFORMATION: The FHWA, in cooperation with the New York State Department of Transportation (NYSDOT) will prepare an environmental impact statement (EIS) on a proposal to improve NYS Route 17 in Delaware County, New York. The proposed improvement would involve the construction of a new controlled access highway in the Towns of Deposit and Hancock for a distance of about 11.3 kilometers. The project objectives are to eliminate all at-grade intersections and driveways on NYS Route 17 between Hale Eddy and Hancock and to upgrade NYS Route 17 to Interstate standards for the designation of NYS Route 17 to Interstate 86. The project will include at least one interchange and the construction of service roads so that the local community will be able to access the newly constructed controlled access highway.

Alternatives under consideration include: 1. Do Nothing and 2. Controlled access freeway, built to Interstate standards, with at least one full interchange serving the community of Hale Eddy. Several alignment alternatives are being considered for further study under the controlled access freeway alternative. Alternatives A & A2 incorporate a new diamond interchange in Hale Eddy and reconstructs the freeway on existing alignment. Alternative B provides a new interchange east of Hale Eddy and new alignment north of existing Route 17. Alternative C provides two new diamond interchanges, one in Hale Eddy and one in the Roods Creek Road area and new alignment north of existing Route 17. Alternatives D and E incorporate a new interchange at Roods Creek Road and Hale Eddy, respectively, and new alignment south of Route 17 in the Town of Sanford between Hale Eddy and the Roods Creek Road area. Alternative F provides a new diamond interchange in the Lower Hale Eddy Road area and the freeway would be reconstructed on existing alignment. Alternative G provides two new diamond interchanges, one in the Hungry Hollow Road area and one in the Roods Creek Road area, and new alignment north of existing route 17. Within all of the alternatives noted above, various options for maintaining access to existing properties incorporating service roads are under study. Incorporated into and studied with the various build alternatives will be design variations of grade and alignment.

Letters describing the proposed action and soliciting comments will be sent to appropriate Federal, State, and local agencies, and to private organizations and citizens who have previously expressed interest in this proposal. A Public Informational Meeting was held on March 13, 2001 in the Town of Hancock. After the March meeting a steering committee was formed to address and resolve community issues that could influence development of the project. The committee, which consists of 25 members, met on May 11, 2001. Additional public informational and steering committee meetings are planned and will continue as needed. In addition, a public hearing will be held. The draft EIS will be available for public and agency review and comment. No formal NEPA scoping meeting is planned at this time.

To ensure that the full range of issues related to this proposed action are addressed and all significant issues identified, comments and suggestions are invited from all interested parties. Comments or questions concerning this proposed action and the EIS should be directed to the NYSDOT or FHWA at the addresses provided above.

(Catalog of Federal Domestic Program Number 20.205, Highway Research Planning and Construction. The regulations implementing Executive Order 12372 regarding intergovernmental consultation on Federal programs and activities apply to this program.

Authority: 23 U.S.C. 315; 23 CFR 771.123.

Issued on: June 28, 2001.
Douglas P. Conlan,
District Operations Engineer, New York Division.

[FR Doc. 01-17086 Filed 7-6-01; 8:45 am]

BILLING CODE 4910-22-M